OFFICE OF SPECIAL COUNSEL

[OMB Control No. 3255-0005]

Form OSC-14

AGENCY: Office of Special Counsel.

ACTION: Notice of information collection; request for comments.

SUMMARY: In accordance with the Paperwork Reduction Act of 1995, Office of Management and Budget (OMB) implementing regulations, and the Government Paperwork Elimination Act, the U.S. Office of Special Counsel (OSC) is seeking comments on renewal of OMB's approval of OSC's updated, dynamic electronic form used to file complaints and disclosures with OSC. The form, known as Form OSC-14, was approved by OMB in September 2017. OSC revised Form OSC-14 in July 2019 to reflect subsequent statutory changes and obtained emergency OMB/OIRA approval of the updated information collection. The final rule authorizing use of Form OSC-14 went into effect on August 26, 2019 and the information collection is currently authorized by OMB Control Number 3255-0005, which expires on February 29, 2020. This information collection seeks to extend OSC's period for using a form to collect this information through 2023.

DATES: Interested persons are invited to submit comments by December 16, 2019.

ADDRESSES: You may submit comments identified by “Form OSC-14” by any of the following methods:

• Federal eRulemaking Portal: http://www.regulations.gov. Follow the instructions for sending comments.

• Email: FRLiaison@osc.gov. Include “Form OSC-14 Comment” in the subject line of the message.

• Mail: U.S. Office of Special Counsel, Attention: Federal Register Liaison, 1730 M Street NW, Suite 218, Washington, DC 20036.

All comments received may be posted without change to OSC's website, including any personal information provided.

FOR FURTHER INFORMATION CONTACT: Susan K. Ullman, General Counsel, U.S. Office of Special Counsel, by telephone at (202) 804-7000, or by email at sullman@osc.gov.

SUPPLEMENTARY INFORMATION:

I. Abstract

OSC is a permanent independent federal investigative and prosecutorial agency. OSC's basic authorities come from four federal statutes: The Civil Service Reform Act, the Whistleblower Protection Act, the Hatch Act, and the Uniformed Services Employment & Reemployment Rights Act (USERRA). OSC's primary mission is to safeguard the merit system by protecting federal employees and applicants from prohibited personnel practices, especially reprisal for whistleblowing, and to serve as a safe channel for allegations of wrongdoing.

OSC is seeking renewal of the approval for the information collection for Form OSC-14. The electronic form must be used to submit allegations of possible prohibited personnel practices or other prohibited activity for investigation and possible prosecution by OSC and is recommended for filing disclosures of covered wrongdoing for review and possible referral to heads of agencies. The form may also be used by individuals to file complaints under the Hatch Act.

II. Request for Comments

OSC requests that you send your comments on this collection to the location listed in the ADDRESSES section. Your comments should address the following: (a) The necessity of the information collection for OSC to perform its functions; (b) the accuracy of the estimated burden (hours and cost) of the collection of information; (c) ways OSC could enhance the quality, utility, and clarity of the information to be collected; and (d) ways OSC could minimize the burden of the collection of the information on the respondents. All comments will be available for review at the location listed in the ADDRESSES section during the hours of 9 a.m.-5 p.m., Eastern Time, Monday through Friday except for legal holidays. Before including your address, phone number, email address or other personally identifiable information (PII), please be advised that your entire comment—including your PII—may be made public at any time.

III. Data

OMB Control Number 3255-0005.

Title of Collection: Updated Form OSC-14: Electronic Submission of Allegations and Disclosures.

The updated electronic form is available on the OSC website at https://osc.gov/Pages/File-Complaint.aspx.

Brief Description of Collection: Submission of this information allows OSC to receive complaints and disclosures.

Type of Information Collection Request: Approval of a collection of information from individuals who choose to file complaints or disclosures with OSC. The proposed collection is the same as the collection that was approved on an emergency basis and replaces three separate forms OSC previously used to collect the information. This is for an extension without change of a currently approved collection.

Affected Public: Current and former Federal employees, applicants for Federal employment, state and local government employees, and their representatives, and the general public.

Respondent's Obligation: Voluntary.

Estimated Annual Number of Form OSC-14 Respondents: 6000 (estimate based on a review of recent OSC Annual Reports and Congressional Budget Justifications, and trends).

Frequency of Use of Updated Form OSC-14: Daily.

Estimated Average Amount of Time for a Person to Respond Using Form OSC-14: For prohibited personnel practice and other prohibited activities allegations, one hour and 15 minutes; for whistleblower disclosures, one hour; and for Hatch Act allegations, 30 minutes to complete the form. OSC based these estimates on testing completed by OSC employees during the development of the collection form.

Estimated Annual Burden for Filing Form OSC-14: 6917.5 hours.

Dated: October 9, 2019.
Travis Millsaps,
Deputy Special Counsel for Policy.

[FR Doc. 2019-22410 Filed 10-11-19; 8:45 am]

BILLING CODE 7405-01-P